DEPARTMENT OF ENERGY

Federal Energy Regulatory Commission

[Docket Nos. EG08-19-000; EG08-20-000; EG08-21-000; EG08-22-000; EG08-23-000; EG08-24-000; EG08-25-000; EG08-27-000; EG08-28-000]

Sweetwater Wind 5 LLC; South Trent Wind LLC; Forward Windpower, LLC; Lookout Wind Power, LLC; Breech Ridge Energy LLC; Las Vegas Cogeneration Limited Partnership; Buffalo Gap Wind Farm 3, LLC; Rail Splitter Wind Farm, LLC; Waterbury Generation, LLC; Notice of Effectiveness of Exempt Wholesale Generator or Foreign Utility Company Status

March 31, 2008.

Take notice that during the month of February 2008, the status of the above-captioned entities as Exempt Wholesale Generators became effective by operation of the Commission's regulations. 18 CFR 366.7(a).

Kimberly D. Bose,
Secretary.

[FR Doc. E8-7286 Filed 4-7-08; 8:45 am]

BILLING CODE 6717-01-P